DEPARTMENT OF COMMERCE

International Trade Administration

[A-485-803]

Cut-to-Length Carbon Steel Plate From Romania; Time Limits

AGENCY: Import Administration, International Trade Administration, Department of Commerce.

ACTION: Notice of extension of time limit for preliminary results of antidumping duty administrative review.

SUMMARY: The Department of Commerce (the Department) is extending the time limit for the preliminary results of the 1998-1999 administrative review of the antidumping duty order on cut-to-length carbon steel plate from Romania. This review covers two exporters of the subject merchandise to the United States, Metalexportimport, S.A. and Windmill International Romania Branch (Windmill), and one manufacturer of the subject merchandise, C. S. Sidex, S.A. The period of review is August 1, 1998 through July 31, 1999.

EFFECTIVE DATE: April 13, 2000.

FOR FURTHER INFORMATION CONTACT: Fred Baker at (202) 482-2924 or Robert James at (202) 482-0649, Antidumping and Countervailing Duty Enforcement Group III, Import Administration, International Trade Administration, U.S. Department of Commerce, 14th Street and Constitution Avenue NW, Washington, DC 20230.

SUPPLEMENTARY INFORMATION: The Department initiated this administrative review on October 1, 1999 (64 FR 53318) and November 4, 1999 (64 FR 60161). Under section 751(a)(3)(A) of the Tariff Act of 1930, as amended (the Tariff Act), the Department may extend the deadline for completion of an administrative review if it determines that it is not practicable to complete the review within the statutory time limit of 365 days. Because of the complexity and difficulty presented with surrogate country selection and factor valuation in this case, the Department is extending the time limit for completion of the preliminary results until August 30, 2000. See Memorandum from Richard Weible to Joseph Spetrini, on file in room B-099 of the main Commerce building. The deadline for the final results of this review will continue to be 120 days after the publication of the preliminary results.

This extension is in accordance with section 751(a)(3)(A) of the Tariff Act and section 351.213(h)(2) of the Department's regulations.

Dated: April 27, 2000.
Joseph A. Spetrini,
Deputy Assistant Secretary Enforcement Group III.

[FR Doc. 00-9239 Filed 4-12-00; 8:45 am]

BILLING CODE 3510-DS-P